DEPARTMENT OF HOUSING AND URBAN DEVELOPMENT

[Docket No. FR-5982-D-01]

Delegation of Authority for the Office of Lead Hazard Control and Healthy Homes

AGENCY: Office of the Secretary, HUD.

ACTION: Notice of Delegation of Authority.

SUMMARY: Under the Residential Lead- Based Paint Hazard Reduction Act of 1992, the Office of Lead Hazard Control and Healthy Homes (OLHCHH) is authorized to develop, demonstrate, and promote measures to correct lead-based paint-related health and safety hazards in the home environment that affect children, particularly of low-income families. In this notice, the Secretary delegates to the Director of OLHCHH, all authority pursuant to the Lead-Based Paint Poisoning Prevention Act, the Residential Lead-Based Paint Hazard Reduction Act of 1992, sections 501 and 502 of the Housing and Urban Development Act of 1970, and authorizing legislation pertaining to lead hazard control and healthy homes contained within annual appropriations acts, for matters pertaining to lead hazard control and healthy homes. This includes oversight and enforcement of the Lead Disclosure Rule as well as oversight of the Lead Safe Housing Rule for all HUD programs and enforcement of the Lead Safe Housing Rule for Multifamily Housing programs, the Single Family Asset Management program, and Public and Indian Housing (PIH) programs. PIH enforcement actions include coordination with the appropriate PIH field office.

DATES: Effective Date: November 28, 2016.

FOR FURTHER INFORMATION CONTACT: Karen Griego, Program Environmental Clearance Officer, OLHCHH, Department of Housing and Urban Development, 500 Gold Avenue SW., Suite 7301, P.O. Box 906, Albuquerque, NM 87103-0906, telephone number (505) 346-6462 (this is not a toll-free number). Persons with hearing- or speech-impairments may access this number through TTY by calling the toll-free Federal Relay Service at 1-800-877-8339.

SUPPLEMENTARY INFORMATION: OLHCHH was created by the Departments of Veterans Affairs and Housing and Urban Development, and Independent Agencies Appropriations Act of 1992 (Pub. L. 102-139, October 28, 1991). Under the Residential Lead-Based Paint Hazard Reduction Act of 1992, OLHCHH is authorized to develop, demonstrate, and promote measures to correct lead-based paint related health and safety hazards in the home environment that affect children, particularly of low-income families. Today's delegation also supersedes all prior delegations of authority for OLHCHH.

Section A. Authority Delegated

The Secretary hereby delegates to the Director of OLHCHH, all authority of the Secretary pursuant to the Lead-Based Paint Poisoning Prevention Act (42 U.S.C. 4821 et seq.), the Residential Lead-Based Paint Hazard Reduction Act of 1992 (42 U.S.C. 4851 et seq.), sections 501 and 502 of the Housing and Urban Development Act of 1970 (12 U.S.C. 1701z-1 and 1701z-2), and authorizing legislation pertaining to lead hazard control and/or healthy homes contained within annual appropriations acts for matters pertaining to lead hazard control and healthy homes. This includes the oversight and enforcement of the Lead Disclosure Rule and the oversight of the Lead Safe Housing Rule (24 CFR part 35, subparts A through R) for all HUD programs and enforcement of the Lead Safe Housing Rule for Multifamily Housing programs, the Single Family Asset Management program, and PIH programs. PIH enforcement actions include coordination with the appropriate PIH field office. The Director of OLHCHH also has responsibility for ensuring compliance, within assistance programs administered by OLHCHH, with relevant environmental requirements described in 24 CFR part 50, and with HUD responsibilities under 24 CFR part 58 in accordance with the Memorandum of Understanding Regarding U.S. Department of Housing and Urban Development Compliance with the National Environmental Policy Act and Related Laws and Authorities, See, 81 FR 66075, September 26, 2016.

Section B. Authority Excepted

The authority delegated in this document does not include the authority to sue or be sued or to issue or waive regulations.

Section C. Authority To Redelegate

The Secretary authorizes the Director of OLHCHH to redelegate the authority described in Section A.

Section D. Authority Superseded

This delegation supersedes all previous delegations of authority to OLHCHH. The Secretary may revoke the authority authorized herein, in whole or part, at any time.

Authority: Section 7(d) of the Department of Housing and Urban Development Act (42 U.S.C. 3535(d)).

Dated: November 28, 2016.
Julián Castro,
Secretary.

[FR Doc. 2016-29653 Filed 12-9-16; 8:45 am]

BILLING CODE 4210-67-P